DEPARTMENT OF THE INTERIOR

National Park Service

[2253-665]

Notice of Inventory Completion: U.S. Department of the Interior, Bureau of Indian Affairs, Washington, DC, and the Arizona State Museum, University of Arizona, Tucson, AZ

AGENCY: National Park Service, Interior.

ACTION: Notice.

SUMMARY: The United States Department of the Interior, Bureau of Indian Affairs, and the Arizona State Museum, University of Arizona, have completed an inventory of human remains, in consultation with the appropriate Indian tribes, and have determined that there is a cultural affiliation between the human remains and present-day Indian tribes. Representatives of any Indian tribe that believes itself to be culturally affiliated with the human remains may contact the Arizona State Museum, University of Arizona. Repatriation of the human remains to the Indian tribes stated below may occur if no additional claimants come forward.

DATES: Representatives of any Indian tribe that believes it has a cultural affiliation with the human remains should contact the Arizona State Museum, University of Arizona, at the address below by March 28, 2012.

ADDRESSES: John McClelland, NAGPRA Coordinator, P.O. Box 210026, Arizona State Museum, University of Arizona, Tucson, AZ 85721, telephone (520) 626-2950.

SUPPLEMENTARY INFORMATION: Notice is hereby given in accordance with the Native American Graves Protection and Repatriation Act (NAGPRA), 25 U.S.C. 3003, of the completion of an inventory of human remains under the control of the U.S. Department of the Interior, Bureau of Indian Affairs, Washington, DC, and in the physical custody of the Arizona State Museum, University of Arizona, Tucson, AZ (ASM). The human remains were removed from sites within the boundaries of the Fort Apache Indian Reservation, Gila and Navajo Counties, AZ.

This notice is published as part of the National Park Service's administrative responsibilities under NAGPRA, 25 U.S.C. 3003(d)(3). The determinations in this notice are the sole responsibility of the museum, institution or Federal agency that has control of the Native American human remains. The National Park Service is not responsible for the determinations in this notice.

Consultation

A detailed assessment of the human remains was made by the ASM professional staff in consultation with representatives of the Hopi Tribe of Arizona; White Mountain Apache Tribe of the Fort Apache Indian Reservation, Arizona; and the Zuni Tribe of the Zuni Reservation, New Mexico.

History and Description of the Remains

In 1979, legally authorized test excavations were conducted at site AZ P:14:264 (ASM), Navajo County, AZ, by the University of Arizona Archaeological Field School, under the direction of Brian Byrd. No human burials were intentionally excavated during this project. Archeological collections from the site were brought to the museum at the end of the field season, but no accession number was assigned to them. In 2011, ASM staff found fragmentary human remains representing, at minimum, one individual intermingled with animal bone collections from this site. The animal bones are not considered to be associated funerary objects. No known individuals were identified. No associated funerary objects are present.

Site AZ P:14:264 is a sherd and lithic scatter located near the test excavation sites. Based on the ceramic assemblage, the site has been dated to the period A.D. 1000-1400. The ceramic forms are consistent with the archeologically-described Upland Mogollon or prehistoric Western Pueblo traditions.

In 1979, legally authorized test excavations were conducted at site AZ P:14:296 (ASM), Navajo County, AZ, by the University of Arizona Archaeological Field School, under the direction of Brian Byrd. No human burials were intentionally excavated during this project. Archeological collections from the site were brought to the museum at the end of the field season, but no accession number was assigned to them. In 2011, ASM staff found fragmentary human remains representing, at minimum, one individual intermingled with animal bone collections from this site. The animal bones are not considered to be associated funerary objects. No known individuals were identified. No associated funerary objects are present.

Site AZ P:14:296 consists of a sherd and lithic scatter. In addition, the remains of at least one pit house were located near the test excavation sites. Based on the ceramic assemblage and architectural forms, the site has been dated to A.D. 700-900. The ceramic and architectural forms are consistent with the archeologically-described Upland Mogollon or prehistoric Western Pueblo traditions.

In 1979, legally authorized test excavations were conducted at site AZ P:14:297 (ASM), Navajo County, AZ, by the University of Arizona Archaeological Field School, under the direction of Brian Byrd. No human burials were intentionally excavated during this project. Archeological collections from the site were brought to the museum at the end of the field season, but no accession number was assigned to them. In 2011, ASM staff found fragmentary human remains representing, at minimum, two individuals intermingled with animal bone collections from this site. The animal bones are not considered to be associated funerary objects. No known individuals were identified. No associated funerary objects are present.

Site AZ P:14:297 is a sherd and lithic scatter. In addition, the remains of at least one pit house were located near the test excavation sites. Based on a tree ring date, the site has been dated to the period A.D. 800-1000. The ceramic and architectural forms are consistent with the archeologically-described Upland Mogollon or prehistoric Western Pueblo traditions.

In 1979, legally authorized test excavations were conducted at site AZ V:2:72 (ASM), Gila County, AZ, by the University of Arizona Archaeological Field School, under the direction of Brian Byrd. No human burials were intentionally excavated during this project. Archeological collections from the site were brought to the museum at the end of the field season, but no accession number was assigned to them. In 2011, ASM staff found fragmentary human remains representing, at minimum, one individual intermingled with animal bone collections from this site. The animal bones are not considered to be associated funerary objects. No known individuals were identified. No associated funerary objects are present.

Site AZ V:2:72 is a rock shelter located in the same vicinity as Hole Canyon Pueblo, site AZ V:2:5. Based on the ceramic assemblage, the site has been dated to A.D. 1000-1200. The ceramic forms are consistent with the archeologically-described Upland Mogollon or prehistoric Western Pueblo traditions.

A detailed discussion of the basis for cultural affiliation of archeological sites in the region where the above sites are located may be found in “Cultural Affiliation Assessment of White Mountain Apache Tribal Lands (Fort Apache Indian Reservation),” by John R. Welch and T.J. Ferguson (2005). To summarize, archeologists have used the terms Upland Mogollon or prehistoric Western Pueblo to define the archeological complexes represented by the sites listed above. Material culture characteristics of these traditions include a temporal progression from earlier pit houses to later masonry pueblos, villages organized in room blocks of contiguous dwellings associated with plazas, rectangular kivas, polished and paint-decorated ceramics, unpainted corrugated ceramics, inhumation burials, cradleboard cranial deformation, grooved stone axes, and bone artifacts. The combination of the material culture attributes and a subsistence pattern, which included hunting and gathering augmented by maize agriculture, helps to identify an earlier group. Archeologists have also remarked that there are strong similarities between this earlier group and present-day tribes included in the Western Pueblo ethnographic group, especially the Hopi Tribe of Arizona and the Zuni Tribe of the Zuni Reservation, New Mexico. The similarities in ceramic traditions, burial practices, architectural forms and settlement patterns have led archeologists to believe that the prehistoric inhabitants of the Mogollon Rim region migrated north and west to the Hopi mesas, and north and east to the Zuni River Valley. Certain objects found in Upland Mogollon archeological sites have been found to have strong resemblances to ritual paraphernalia that are used in continuing religious practices by the Hopi and Zuni. Some petroglyphs on the Fort Apache Indian Reservation have also persuaded archeologists of continuities between the earlier identified group and current-day Western Pueblo people. Biological information from the site of Grasshopper Pueblo, which is located in close proximity to the sites listed above, supports the view that the prehistoric occupants of the Upland Mogollon region had migrated from various locations to the north and west of the region.

Hopi and Zuni oral traditions parallel the archeological evidence for migration. Migration figures prominently in Hopi oral tradition, which refers to the ancient sites, pottery, stone tools, petroglyphs and other artifacts left behind by the ancestors as “Hopi Footprints.” This migration history is complex and detailed, and includes traditions relating specific clans to the Mogollon region. Hopi cultural advisors have also identified medicinal and culinary plants at archeological sites in the region. Their knowledge about these plants was passed down to them from the ancestors who inhabited these ancient sites. Migration is also an important attribute of Zuni oral tradition, and includes accounts of Zuni ancestors passing through the Upland Mogollon region. The ancient villages mark the routes of these migrations. Zuni cultural advisors remark that the ancient sites were not abandoned. People returned to these places from time to time, either to reoccupy them or for the purpose of religious pilgrimages—a practice that has continued to the present day. Archeologists have found ceramic evidence at shrines in the Upland Mogollon region that confirms these reports. Zuni cultural advisors have names for plants endemic to the Mogollon region that do not grow on the Zuni Reservation. They also have knowledge about traditional medicinal and ceremonial uses for these resources, which has been passed down to them from their ancestors. Furthermore, Hopi and Zuni cultural advisors have recognized that their ancestors may have been co-resident at some of the sites in this region during their ancestral migrations.

There are differing points of view regarding the possible presence of Apache people in the Upland Mogollon region during the time that these ancient sites were occupied. Some Apache traditions describe interactions with Ancestral Puebloan people during this time, but according to these stories, Puebloan people and Apache people were regarded as having separate identities. The White Mountain Apache Tribe of the Fort Apache Reservation, Arizona, does not claim cultural affiliation with the human remains from these ancestral Upland Mogollon sites. As reported by Welch and Ferguson (2005), consultations between the White Mountain Apache Tribe of the Fort Apache Reservation, Arizona, and the Navajo Nation, Arizona, New Mexico & Utah; Pueblo of Acoma, New Mexico; and Pueblo of Laguna, New Mexico, have indicated that none of these tribes wish to pursue claims of affiliation with sites on White Mountain Apache Tribal lands. Finally, the White Mountain Apache Tribe of the Fort Apache Reservation, Arizona, supports the repatriation of human remains from these ancestral Upland Mogollon sites and is ready to assist the Hopi Tribe of Arizona and Zuni Tribe of the Zuni Reservation, New Mexico, in their reburial on tribal land.

Determinations Made by the Bureau of Indian Affairs and the Arizona State Museum

Officials of the Bureau of Indian Affairs and the Arizona State Museum have determined that:

• Pursuant to 25 U.S.C. 3001(9), the human remains described in this notice represent the physical remains of five individuals of Native American ancestry.

• Pursuant to 25 U.S.C. 3001(2), there is a relationship of shared group identity that can be reasonably traced between the Native American human remains and the Hopi Tribe of Arizona and Zuni Tribe of the Zuni Reservation, New Mexico.

Additional Requestors and Disposition

Representatives of any other Indian tribe that believes itself to be culturally affiliated with the human remains should contact John McClelland, NAGPRA Coordinator, Arizona State Museum, University of Arizona, Tucson, AZ 85721, telephone (520) 626-2950, before March 28, 2012. Repatriation of the human remains to the Hopi Tribe of Arizona and Zuni Tribe of the Zuni Reservation, New Mexico, may proceed after that date if no additional claimants come forward.

The Arizona State Museum is responsible for notifying the Hopi Tribe of Arizona; White Mountain Apache Tribe of the Fort Apache Indian Reservation, Arizona; and the Zuni Tribe of the Zuni Reservation, New Mexico that this notice has been published.

Dated: February 2, 2012.
Sherry Hutt,
Manager, National NAGPRA Program.

[FR Doc. 2012-4505 Filed 2-24-12; 8:45 am]

BILLING CODE 4312-50-P